ENVIRONMENTAL PROTECTION AGENCY

[OW-2006-0064, FRL-8246-5]

U.S. EPA's National Clean Water Act Recognition Awards Presentation During the Water Environment Federation's Technical Exposition and Conference (WEFTEC), and Announcement of 2006 National Awards Winners

AGENCY: Environmental Protection Agency (EPA).

ACTION: Notice.

SUMMARY: The Environmental Protection Agency recognized municipalities and industries for outstanding and innovative technological achievements in wastewater treatment and pollution abatement programs. An inscribed plaque was presented to first and second place national winners at the annual Clean Water Act Recognition Awards presentation during the Water Environment Federation's Technical Exposition and Conference (WEFTEC). Recognition is made every year for outstanding programs and projects in operations and maintenance at wastewater treatment facilities, biosolids management and public acceptance, municipal implementation and enforcement of local pretreatment programs, cost-effective storm water controls, and combined sewer overflow controls. This action also announces the 2006 national awards winners.

DATES: Monday, October 23, 2006, 11:30 a.m. to 1 p.m.

ADDRESSES: The national awards presentation ceremony was held at the Dallas Convention Center, 650 S. Griffin Street, Dallas, Texas.

FOR FURTHER INFORMATION CONTACT: Maria E. Campbell, Telephone: (202) 564-0628. Facsimile Number: (202) 501-2396. E-Mail: campbell.maria@epa.gov. Also visit the Office of Wastewater Management's webpage at http://www.epa.gov/owm.

SUPPLEMENTARY INFORMATION: The Clean Water Act Recognition Awards are authorized by section 501(a) and (e) of the Clean Water Act, and 33 U.S.C. 1361(a) and (e). Applications and nominations for the national awards are recommended by EPA regions. A regulation establishes a framework for the annual recognition awards program at 40 CFR part 105. EPA announced the availability of application and nomination information for this year's awards (71 FR 23919, April 25, 2006). The awards program enhances national awareness of municipal wastewater treatment and encourages public support of programs targeted to protecting the public's health and safety and the nation's water quality. State water pollution control agencies and EPA regional offices make recommendations to headquarters for the national awards. Programs and projects being recognized are in compliance with applicable water quality requirements and have a satisfactory record with respect to environmental quality. Municipalities and industries are recognized for their demonstrated creativity and technological achievements in five awards categories as follows:

(1) Outstanding Operations and Maintenance practices at wastewater treatment facilities;

(2) Exemplary Biosolids Management projects, technology/innovation or development activities, research and public acceptance efforts;

(3) Pretreatment Program Excellence;

(4) Storm Water Management Excellence; and,

(5) Outstanding Combined Sewer Overflow Control programs. The winners of the EPA's 2006 National Clean Water Act Recognition Awards are listed below by category.

| Sub-category
Category: Operations and Maintenance Awards
First Place:
Clean Water Services, Rock Creek Advanced Wastewater Treatment Facility, Hillsboro, OR | Large Advanced Plant.
Watertown Wastewater Treatment Facility, Watertown, SD | Medium Advanced Plant.
Town of Castleton Wastewater Treatment Facility, Castleton, VT | Small Advanced Plant.
Franklin Wastewater Treatment Facility, Winnipesaukee River Basin Program, Franklin, NH | Large Secondary Plant.
Huron Wastewater Treatment Facility, Huron, SD | Medium Secondary Plant.
Town of Wanatah Wastewater Treatment Facility, Wanatah, IN | Small Secondary Plant.
Sturgis Wastewater Treatment Facility, Sturgis, SD | Large Non-Discharging Plant.
Warner Village Water District, Warner, NH | Most Improved Plant.
New Hampshire Department of Environmental Services, Wastewater Engineering Bureau/Operations Section, Concord, New Hampshire | Trainer for the Most Improved Plant.
Second Place:
Littleton/Englewood Wastewater Treatment Facility, Englewood, CO | Large Advanced Plant.
The Pequannock Lincoln Park & Fairfield Sewerage Authority Wastewater Treatment Plant, Lincoln Park, NJ | Medium Advanced Plant.
Hurlburt Field Wastewater Treatment Facility, Hurlburt Field Air Force Base, Okaloosa County, FL | Small Advanced Plant.
Northern Water Pollution Control Facility—Ocean County Utilities Authority, Brick Township, NJ | Large Secondary Plant.
Portage Lake Water and Sewage Authority, Houghton-Hancock Wastewater Treatment Plant, Houghton, MI | Medium Secondary Plant.
City of Natoma Wastewater Treatment Facility, Natoma, KS | Most Improved Plant.
Gerald Grant, P.E., Fort Scott Community College, Fort Scott, KS | Trainer for the Most Improved Plant.
Category: Exemplary Biosolids Management Awards
First Place:
Encina Wastewater Authority, Biosolids Management Program, Carlsbad, CA | Large Operating Projects.
City of Olathe Compost Facility, Olathe, KS | Small Operating Projects.
Florida Water Environment Association and the Florida Dept. of Environmental Protection Agency/Central District, Orlando, FL | Public Acceptance Activities.
Second Place:
Rancho Las Virgenes Composting Facility, Community Compost Program, Calabasas, CA | Public Acceptance Activities.
Category: Pretreatment Program Awards
First Place:
City of Corvallis Pretreatment Program, Corvallis, OR | 0-5 Significant Industrial Users (SIUs).
Riverside Regional Water Quality Control Plant, Environmental Compliance Section, City of Riverside, CA | 6-20 SIUs.
City of Fresno Industrial Pretreatment Program, Fresno, CA | Greater Than 21 SIUs.
Second Place:
City of San Leandro, San Leandro, CA | 6-20 SIUs.
Category: Storm Water Management Awards
First Place:
Santa Clara Valley Urban Runoff Pollution Prevention Program, San Jose, CA | Municipal Program.
Category: Combined Sewer Overflow Control Awards
First Place:
Auburn Sewerage District, Auburn, ME | Municipal Program.
Second Place:
City of Little Falls Wastewater Treatment Plant, Little Falls NY | Municipal Program.

Dated: November 16, 2006.
James A. Hanlon,
Director, Office of Wastewater Management.

[FR Doc. E6-19750 Filed 11-21-06; 8:45 am]

BILLING CODE 6560-50-P